DEPARTMENT OF TRANSPORTATION

National Highway Traffic Safety Administration

[Docket No. NHTSA-2018-0070; Notice 1]

Notice of Receipt of Petition for Decision That Certain Nonconforming Model Year 2011 Mercedes-Benz GL550 Multipurpose Passenger Vehicles Originally Certified to the Canadian Motor Vehicle Safety Standards Are Eligible for Importation

AGENCY: National Highway Traffic Safety Administration (NHTSA), Department of Transportation (DOT).

ACTION: Receipt of petition.

SUMMARY: This document announces receipt by the National Highway Traffic Safety Administration (NHTSA) of a petition for a decision that certain model year (MY) 2011 Mercedes-Benz GL550 multipurpose passenger vehicles (MPVs) that were not originally manufactured to comply with all applicable Federal motor vehicle safety standards (FMVSS), but that are certified by their original manufacturer as complying with all applicable Canadian motor vehicle safety standards (CMVSS), are eligible for importation into the United States because they are substantially similar to vehicles that were originally manufactured for sale in the United States and that were certified by their manufacturer as complying with the safety standards (the U.S.-certified 2011 Mercedes-Benz GL550 MPVs and are capable of being readily altered to conform to the standards.

DATES: The closing date for comments on the petition is December 31, 2018.

ADDRESSES: Interested persons are invited to submit written data, views, and arguments on this petition. Comments must refer to the docket number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000, (65 FR 19477-78).

FOR FURTHER INFORMATION CONTACT: Neil Thurgood, Office of Vehicle Safety Compliance, NHTSA (202-366-0712).

SUPPLEMENTARY INFORMATION:

I. History

Under 49 U.S.C. 30141(a)(1)(A), a motor vehicle that was not originally manufactured to conform to all applicable FMVSS shall be refused admission into the United States unless NHTSA has decided that the motor vehicle is substantially similar to a motor vehicle originally manufactured for importation into and sale in the United States, certified under 49 U.S.C. 30115, and of the same model year as the model of the motor vehicle to be compared, and is capable of being readily altered to conform to all applicable FMVSS.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

II. Summary of Petition

J.K. Technologies, LLC (JK), of Baltimore, Maryland (Registered Importer R-90-006) has petitioned NHTSA to decide whether nonconforming MY 2011 Mercedes-Benz GL550 CMVSS-certified MPVs are eligible for importation into the United States. The vehicles which JK believes are substantially similar are MY 2011 Mercedes-Benz GL550 MPVs sold in the United States and certified by their manufacturer as conforming to all applicable FMVSS.

The petitioner claims that it compared the CMVSS-certified MY 2011 Mercedes-Benz GL550 CMVSS certified MPVs to their U.S.-certified counterparts, and found the vehicles to be substantially similar with respect to compliance with most FMVSS.

The petitioner submitted information with its petition intended to demonstrate that the subject non-U.S.-certified vehicles as, originally manufactured, conform to many applicable FMVSS in the same manner as their U.S.-certified counterparts, or are capable of being readily altered to conform to those standards.

Specifically, the petitioner claims that the non-U.S.-certified MY 2011 Mercedes-Benz GL550 CMVSS certified MPVs, as originally manufactured, conform to: Standard Nos. 102 Transmission Shift Position Sequence, Starter Interlock, and Transmission Braking Effect, 103 Windshield Defrosting and Defogging Systems, 104 Windshield Wiping and Washing Systems, 106 Brake Hoses, 108 Lamps, Reflective Devices and Associated Equipment, 110 Tire Selection and Rims and Motor Home/Recreation Vehicle Trailer Load Carrying Capacity Information for Motor Vehicles with a GVWR of 4,536 Kilograms (10,000 pounds) or Less, 111 Rearview Mirrors, 113 Hood Latch System, 114 Theft Protection and Rollaway Prevention, 116 Motor Vehicle Brake Fluids, 118 Power-Operated Window, Partition, and Roof Panel Systems, 124 Accelerator Control Systems, 126 Electronic Stability Control Systems, 135 Light Vehicle Brake Systems, 201 Occupant Protection in Interior Impact, 202a Head Restraints; Mandatory Applicability Begins on September 1, 2009, 203 Impact Protection for the Driver from the Steering Control System, 204 Steering Control Rearward Displacement, 205 Glazing Materials, 206 Door Locks and Door Retention Components, 207 Seating Systems, 208 Occupant Crash Protection, 209 Seat Belt Assemblies, 210 Seat Belt Assembly Anchorages, 212 Windshield Mounting, 214 Side Impact Protection, 216 Roof Crush Resistance; Applicable unless a Vehicle is Certified to § 571.216a, 219 Windshield Zone Intrusion, 225 Child Restraint Anchorage Systems, 301 Fuel System Integrity, and 302 Flammability of Interior Materials.

The petitioner also contends that the subject non-U.S.-certified passenger cars are capable of being readily altered to meet the following standards, in the manner indicated:

Standard No. 101 Controls and Displays: Replacement of the instrument cluster with the U.S.-model component and reprogramming of its software as described in the petition. In addition, replacement of the engine start control push button switch with the U.S.-model component to correct the labeling to meet the requirements of the standard.

Standard No. 138 Tire Pressure Monitoring Systems: Replacement or addition of U.S.-model TPMS components and the wiring harness, and then reprogramming of the vehicle ECUs as necessary to meet the requirements of the standard as described in the petition and shown in its attachments. The certifying manufacturer, Mercedes Benz, stated in a letter provided by the petitioner that they do not provide a retrofit or conversion to render this vehicle compliant with this specific standard. NHTSA is, therefore, specifically seeking public comment on whether the petitioner's proposed approach to conforming the subject vehicles to FMVSS No. 138 is capable of achieving conformity.

The petitioner further states that labels will be affixed to conform the vehicle to the requirements of 49 CFR parts 565 and 567, VIN Content and Certification, respectively.

III. Comments

All comments and supporting materials received before the close of business on the closing date indicated above will be filed in the docket and considered. Comments filed after the closing date will also be considered to the fullest extent possible and available for examination in the docket at the above addresses.

Once the petition is granted or denied, notice of the decision will be published in the Federal Register pursuant to the authority indicated at the end of this notice.

This notice of receipt of the subject petition does not represent any agency decision or other exercise of judgment concerning the merits of the petition. Notice of final action on the petition will be published in the Federal Register pursuant to the authority indicated below.

Authority: 49 U.S.C. 30141(a)(1)(A), (a)(1)(B), and (b)(1); 49 CFR 593.7; delegation of authority at 49 CFR 1.95 and 501.8.

Claudia W. Covell,
Acting Director, Office of Vehicle Safety Compliance.

[FR Doc. 2018-26059 Filed 11-29-18; 8:45 am]

BILLING CODE 4910-59-P